DEPARTMENT OF JUSTICE

National Institute of Corrections

Solicitation for a Cooperative Agreement—Curriculum Development: Training for Correctional Industries Directors

AGENCY: National Institute of Corrections, Department of Justice.

ACTION: Solicitation for a cooperative agreement.

SUMMARY: The National Institute of Corrections' (NIC) Transition and Offender Workforce Development (T/OWD) and Academy Divisions are seeking applications for the development of a competency based, blended modality training curriculum that will provide Correctional Industries Directors with the knowledge, skills and abilities needed to set organizational priorities, identify strategic objectives, create measurable goals, establish collaborative partnerships, utilize current labor market information, and provide specialized services and programming that support the offenders' long term attachment to the labor force.

DATES: Applications must be received by 4 p.m. EST on Friday, February 12, 2010.

ADDRESSES: Mailed applications must be sent to: Director, National Institute of Corrections, 320 First Street, NW., Room 5007, Washington, DC 20534. Applicants are encouraged to use Federal Express, UPS, or similar service to ensure delivery by the due date.

Hand delivered applications should be brought to 500 First Street, NW., Washington, DC 20534. At the front desk, dial 7-3106, extension 0 for pickup.

Faxed applications will not be accepted. Electronic applications can be submitted via http://www.grants.gov.

FOR FURTHER INFORMATION CONTACT: All technical or programmatic questions concerning this announcement should be directed to Michael Guevara, Correctional Program Specialist, National Institute of Corrections. He can be reached by calling 303-365-4415, or by e-mail at mguevara@bop.gov. Questions will be accepted until one week prior to the application due date. At this time responses to the questions will be posted on the NIC Web site.

SUPPLEMENTARY INFORMATION: Overview: NIC is looking to develop a curriculum, which follows NIC's Instructional Theory Into Practice (ITIP) model, to be written based on occupational documentation that includes a completed DACUM (Developing A Curriculum) and a DACUM validation for the position of Correctional Industries Director. It is anticipated that the curriculum will utilize blended learning formats to accommodate the possibility of distance learning. The curriculum will be piloted and changes made based upon evaluation of the pilot.

Background: NIC has been committed for years to improving offender transition, workforce development, and correctional industries. In an effort to expand on the resources NIC provides the field in these areas, a DACUM was completed for the job of Correctional Industries Director. This was followed by a DACUM validation. The next step is to create and pilot a training curriculum for this position.

Purpose: To create and pilot a complete training curriculum for Correctional Industries Directors.

Scope of Work: At the end of this Cooperative Agreement, a curriculum will have been developed using NIC's Instructional Theory Into Practice (ITIP) model. This model can be found on NIC's Web site via the following link: http://www.nicic.org/pubs/1992/010714.pdf. The curriculum will include a facilitator's manual, participant's manual, and all relevant supplemental material (such as PowerPoint slides, visual and/or audio aids, handouts, exercises, etc.). The use of blended learning tools such as a live web-based training environment (e.g. WebEx) or supplemental on-line training courses is encouraged. Clear learning objectives will be contained in each lesson, and delivery modality will be based on how to most efficiently and effectively achieve these objectives. The curriculum will have been piloted and changes incorporated as necessary. A pre-and post-test, as well as quizzes will have been developed as necessary. Consideration will be given to advance work for participants, such as reading assignments or taking an online course through NIC's Learning Center. An evaluation, to be distributed at the conclusion of the training, will also have been developed. This evaluation will examine the content, processes, and delivery of the program. The evaluation will be designed with the purpose in mind of helping to revise and improve the training and curriculum. After it is developed under this cooperative agreement, the proposed evaluation protocol must be submitted to NIC for review and approval before use.

Specific Requirements: The training curriculum will be based on a recently established needs assessment identified through the use of a DACUM for Correctional Industries Directors. Modules may address the following: Dynamic Leadership; Financial Self-Sufficiency; Offender Workforce Development; Marketing Strategies; Staff Workforce Competencies; Stakeholder Network; Internal and External Customer Satisfaction; Reentry Services; Organizational Performance; Engaging in Legislative Processes, and Balancing Internal/External Environments.

Document Requirements: The following are the expected document requirements. Note: Publications produced under this award must follow the “Guidelines for Preparing and Submitting Manuscripts for Publication” as found in the General Guidelines for Cooperative Agreements included in the award package. All final publications submitted for posting on the NIC Web site must meet the federal government's requirement for accessibility (508 PDF or HTML file). All documents developed under this cooperative agreement must be submitted in draft form to NIC for review before the final products are delivered.

Application Requirements: Applications should be concisely written, contain no more than 20 double spaced typed pages (exclusive of resumes and summaries of experience), and reference the project by the “NIC Opportunity Number” and Title in this announcement. The package must include: a cover letter that identifies the audit agency responsible for the applicant's financial accounts as well as the audit period or fiscal year that the applicant operates under (e.g., July 1 through June 30); a program narrative in response to the statement of work and a budget narrative explaining projected costs. The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://www.nicic.gov/Downloads/PDF/certif-frm.pdf.)

Applications may be submitted in hard copy, or electronically via http://www.grants.gov. If submitted in hard copy, there needs to be an original and three copies of the full proposal (program and budget narratives, application forms and assurances). The original should have the applicant's signature in blue ink.

Authority: Public Law 93-415.

Funds Available: NIC is seeking the applicant's best ideas regarding accomplishment of the scope of work and the related costs for achieving the goals of this solicitation. Funds may only be used for the activities that are linked to the desired outcome of the project.

This project will be a collaborative venture with NIC's Transition & Offender Workforce Development and Academy Divisions.

Eligibility of Applicants: An eligible applicant is any public or private agency, educational institution, organization, individual or team with expertise in the described areas.

Review Considerations: Applications received under this announcement will be subjected to a 3 to 5 person NIC Peer Review Process. The criteria for the evaluation of each application will be as follows:

Programmatic (60%)

Is there demonstrated knowledge of curriculum development? Is a specific model of curriculum development (e.g. ITIP) proposed? Is there demonstrated knowledge of training for leadership and executive positions? Is there demonstrated knowledge of techniques and/or interventions that successfully address acquisition and retention of new knowledge, skills and abilities? Does the proposal include blended and distance learning approaches? Are project goals/tasks adequately discussed? Is there a clear statement of how project goals will be accomplished, to include: major tasks that will lead to achieving the goal, the strategies to be employed, required staffing and other required resources? Are there any innovative approaches, techniques, or design aspects proposed that will enhance the project?

Organizational (20%)

Do the skills, knowledge, and expertise of the organization and the proposed project staff demonstrate a high level of competency to carry out the tasks? Does the applicant/organization have the necessary experience and organizational capacity to carry out all goals of the project? Are the proposed project management and staffing plans realistic and sufficient to complete the project within the 12-month time frame?

Project Management/Administration (20%)

Does the applicant identify reasonable objectives, milestones, and measures to track progress? If consultants and/or partnerships are proposed, is there a reasonable justification for their inclusion in the project and a clear structure to ensure effective coordination? Is the proposed budget realistic, does it provide sufficient cost detail/narrative, and does it represent good value relative to the anticipated results?

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CRR can be done online at the CCR Web site: http://www.ccr.gov. A CCR Handbook and worksheet can also be reviewed at the Web site.

Number of Awards: One.

NIC Opportunity Number: 10A30. This number should appear as a reference line in the cover letter, where indicated on Standard Form 424, and outside of the envelope in which the application is sent.

(Catalog of Federal Domestic Assistance Number: 16.601. Executive Order 12372: This project is not subject to the provisions of Executive Order 12372)

.

Morris L. Thigpen,
Director, National Institute of Corrections.

[FR Doc. 2010-505 Filed 1-12-10; 8:45 am]

BILLING CODE 4410-36-P